CORPORATION FOR NATIONAL AND COMMUNITY SERVICE

Information Collection; Submission for OMB Review, Comment Request

AGENCY: Corporation for National and Community Service.

ACTION: Notice.

SUMMARY: The Corporation for National and Community Service (CNCS) has submitted a public information collection request (ICR) entitled AmeriCorps Application Instructions: State Commissions, State and National Competitive, Professional Corps, Indian Tribes, States and Territories without Commissions, and State and National Planning Grants for review and approval in accordance with the Paperwork Reduction Act of 1980. Copies of this ICR, with applicable supporting documentation, may be obtained by calling CNCS, Jill Graham, at 202-606-6905 or email to jgraham@cns.gov. Individuals who use a telecommunications device for the deaf (TTY-TDD) may call 1-800-833-3722 between 8:00 a.m. and 8:00 p.m. Eastern Time, Monday through Friday.

DATES: Comments may be submitted, identified by the title of the information collection activity, within May 22, 2017.

ADDRESSES: Comments may be submitted, identified by the title of the information collection activity, to the Office of Information and Regulatory Affairs, Attn: Ms. Sharon Mar, OMB Desk Officer for the Corporation for National and Community Service, by any of the following two methods within 30 days from the date of publication in the Federal Register:

(1) By fax to: 202-395-6974, Attention: Ms. Sharon Mar, OMB Desk Officer for the Corporation for National and Community Service; or

(2) By email to: smar@omb.eop.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology.

Comments

A 60-day Notice requesting public comment was published in the Federal Register on January 23, 2017 at 82 FR 7804. This comment period ended March 24, 2017. No public comments were received from this Notice.

Description: CNCS seeks to renew the current AmeriCorps State and National Application Instructions. The information collection will be used in the same manner as the existing Instructions. CNCS also seeks to continue using the current application until the revised application is approved by OMB. The current application expired on January 31, 2017.

Type of Review: Renewal.

Agency: Corporation for National and Community Service.

Title: AmeriCorps Application Instructions: State Commissions, State and National Competitive, Professional Corps, Indian Tribes, States and Territories without Commissions, and State and National Planning.

OMB Number: 3045-0047.

Agency Number: None.

Affected Public: Nonprofit organizations, States, Territories, and Local, and Tribal eligible entities.

Total Respondents: 1,159.

Frequency: Annually.

Average Time per Response: Averages 80 hours.

Estimated Total Burden Hours: 92,720.

Total Burden Cost (capital/startup): None.

Total Burden Cost (operating/maintenance): None.

Dated: April 18, 2017.
Jennifer Bastress Tahmasebi,
Acting Director, AmeriCorps State and National.

[FR Doc. 2017-08124 Filed 4-20-17; 8:45 am]

BILLING CODE 6050-28-P